DEPARTMENT OF TRANSPORTATION

Federal Aviation Administration

14 CFR Part 25

[Docket No. FAA-2024-0988; Notice No. 25-24-03-SC]

Special Conditions: Northwest Aerospace Technologies, Inc (NAT), Boeing Model 787-9 Airplane; Installation of High Wall Suites

AGENCY: Federal Aviation Administration (FAA), DOT.

ACTION: Notice of proposed special conditions.

SUMMARY: This action proposes special conditions for Boeing Model 787-9 series airplanes. These airplanes, as modified by NAT, will have a novel or unusual design feature when compared to the state of technology envisioned in the airworthiness standards for transport category airplanes. This design feature is the installation of high wall suites in the passenger cabin. The applicable airworthiness regulations do not contain adequate or appropriate safety standards for this design feature. These proposed special conditions contain the additional safety standards that the Administrator considers necessary to establish a level of safety equivalent to that established by the existing airworthiness standards.

DATES: Send comments on or before August 26, 2024.

ADDRESSES: Send comments identified by Docket No. FAA-2024-0988 using any of the following methods:

Federal eRegulations Portal: Go to www.regulations.gov and follow the online instructions for sending your comments electronically.

Mail: Send comments to Docket Operations, M-30, U.S. Department of Transportation (DOT), 1200 New Jersey Avenue SE, Room W12-140, West Building Ground Floor, Washington, DC, 20590-0001.

Hand Delivery or Courier: Take comments to Docket Operations in Room W12-140 of the West Building Ground Floor at 1200 New Jersey Avenue SE, Washington, DC between 9 a.m. and 5 p.m., Monday through Friday, except Federal holidays.

Fax: Fax comments to Docket Operations at 202-493-2251.

Docket: Background documents or comments received may be read at www.regulations.gov at any time. Follow the online instructions for accessing the docket or go to Docket Operations in Room W12-140 of the West Building Ground Floor at 1200 New Jersey Avenue SE, Washington, DC, between 9 a.m. and 5 p.m., Monday through Friday, except Federal holidays.

FOR FURTHER INFORMATION CONTACT: Artiom Kostiouk, Cabin Safety, AIR-624, Technical Policy Branch, Policy and Standards Division, Aircraft Certification Service, Federal Aviation Administration, 800 Independence Ave SW, Washington, DC 20591; telephone and fax (202) 267-5446; email artiom.m.kostiouk@faa.gov@faa.gov.

SUPPLEMENTARY INFORMATION:

Comments Invited

The FAA invites interested people to take part in this rulemaking by sending written comments, data, or views. The most helpful comments reference a specific portion of the proposed special conditions, explain the reason for any recommended change, and include supporting data.

On September 26, 2022, NAT applied for a Supplemental Type Certificate to install suites in the passenger cabin of Boeing Model 787-9 series airplanes. While the comment period provided by the FAA for proposed special conditions has typically been thirty days, the FAA is providing twenty days in this instance, due to the pendency of the anticipated delivery date for the affected airplane models.

The FAA will consider all comments received by the closing date for comments, and will consider comments filed late if it is possible to do so without incurring delay. The FAA may change these special conditions based on the comments received.

Privacy

Except for Confidential Business Information (CBI) as described in the following paragraph, and other information as described in 14 CFR 11.35, the FAA will post all comments received without change to www.regulations.gov, including any personal information you provide. The FAA will also post a report summarizing each substantive verbal contact received about these special conditions.

Confidential Business Information

Confidential Business Information (CBI) is commercial or financial information that is both customarily and actually treated as private by its owner. Under the Freedom of Information Act (FOIA) (5 U.S.C. 552), CBI is exempt from public disclosure. If your comments responsive to these special conditions contain commercial or financial information that is customarily treated as private, that you actually treat as private, and that is relevant or responsive to these special conditions, it is important that you clearly designate the submitted comments as CBI. Please mark each page of your submission containing CBI as “PROPIN.” The FAA will treat such marked submissions as confidential under the FOIA, and the indicated comments will not be placed in the public docket of these proposed special conditions. Send submissions containing CBI to the individual listed in the For Further Information Contact section above. Comments the FAA receives, which are not specifically designated as CBI, will be placed in the public docket for these proposed special conditions.

Background

As stated above, NAT applied for a supplemental type certificate for the installation of suites in the passenger cabin in Boeing Model 787-9 series airplanes. The Boeing Model 787-9 airplane, currently approved under Type Certificate No. T00021SE, is a twin-engine transport category airplane, with a maximum seating capacity for 420 passengers, and a maximum take-off weight of 553,000 pounds.

Type Certification Basis

Under the provisions of 14 CFR 21.101, NAT must show that the Boeing Model 787-9 airplane, as changed, continues to meet the applicable provisions of the regulations listed in Type Certificate No. T00021SE or the applicable regulations in effect on the date of application for the change, except for earlier amendments as agreed upon by the FAA.

If the Administrator finds that the applicable airworthiness regulations (i.e., 14 CFR part 25) do not contain adequate or appropriate safety standards for the Boeing Model 787-9 airplane because of a novel or unusual design feature, special conditions are prescribed under the provisions of § 21.16.

Special conditions are initially applicable to the model for which they are issued. Should the applicant apply for a supplemental type certificate to modify any other model included on the same type certificate to incorporate the same novel or unusual design feature, these special conditions would also apply to the other model under § 21.101.

In addition to the applicable airworthiness regulations and special conditions, the Boeing Model 787-9 airplane must comply with the exhaust-emission requirements of 14 CFR part 34, and the noise-certification requirements of 14 CFR part 36.

The FAA issues special conditions, as defined in 14 CFR 11.19, in accordance with § 11.38, and they become part of the type-certification basis under § 21.101.

Novel or Unusual Design Features

The Boeing Model 787-9 airplane will incorporate the following novel or unusual design feature:

Single-passenger suites with high walls that diminish occupant awareness of their surroundings in emergency situations. These suites are considered a novel design for transport category airplanes and were not considered when applicable airworthiness standards were created.

Discussion

For the Model 787-9 airplane, NAT has proposed a customer option for the installation of six high wall suites (HWS) arranged in two rows of three suites each in a 1-1-1 configuration. The characteristics of this HWS design are unique such that the suite walls are higher than conventional mini-suites with partial height surroundings. While the walls for these suites do not extend fully up from the floor to the ceiling, such as those found in traditional “high wall” suites, their wall height of 60 inches is greater than the eye level of a 5th percentile female, impeding visual awareness and egress. These suites are also not remote from the main cabin (such as overhead crew rests). Additionally, the design of these suites is novel in the inclusion of berths that are accessible to the occupant of the suite during flight, unlike previous high wall suite designs.

Part 25 in its current form does not have regulations that address suite installations in the cabin with walls of height that reduce occupant visibility and situational awareness.

Due to the novel design features of these HWS, suitable passenger alerting, supplemental oxygen, and firefighting equipment and procedures are needed for this configuration to ensure occupant awareness in emergency situations. Furthermore, the proposed suite design necessitates the development of additional special conditions, including, but not limited to crew procedures for managing hazards and suite occupants, as well as maintaining cabin-egress route dimensions after deformation of the walls and seats.

The proposed special conditions contain the additional safety standards that the Administrator considers necessary to establish a level of safety equivalent to that established by the existing airworthiness standards.

Applicability

As discussed above, these proposed special conditions are applicable to Boeing Model 787-9 series airplanes. Should the applicant apply for a supplemental type certificate to modify any other model included on the same type certificate to incorporate the same novel or unusual design feature, these special conditions would apply to the other model as well.

Conclusion

This action affects only a certain novel or unusual design feature on one model of airplane. It is not a rule of general applicability and affects only the applicant who applied to the FAA for approval of these features on the airplane.

List of Subjects in 14 CFR Part 25

Aircraft, Aviation safety, Reporting and recordkeeping requirements.

Authority Citation

The authority citation for these special conditions is as follows:

Authority: 49 U.S.C. 106(f), 106(g), 40113, 44701, 44702, and 44704.

The Proposed Special Conditions

Accordingly, the Federal Aviation Administration (FAA) proposes the following special conditions as part of the type certification basis for Boeing Model 787-9 series airplanes, as modified by NAT.

The suites must have the following features:

1. A supplemental oxygen system with the following:

a. Oxygen masks for each seat and berth installed in the suite that meets the same 14 CFR part 25 regulations as the supplemental oxygen system for the main passenger-cabin occupants.

b. An aural and visual alert system to warn occupants and to indicate the need to don oxygen masks in the event of decompression. The aural alert must activate concurrently with the deployment of the oxygen masks in the main passenger cabin and must be loud enough to be heard and clearly understood from each suite berth and seat location.

c. When an occupant needs to locate and don a deployed oxygen mask, sufficient levels of lighting to perform this task must be automatically activated within the suite.

d. Automatic presentation of oxygen for occupants lying in the berth.

e. If a chemical oxygen generator is used as the oxygen supply source, the suite oxygen installation must meet §§ 25.795(d) and 25.1450 at amendment 25-138 or higher.

2. The design approval holder must provide operating procedures to move suite occupants when smoke is present, or firefighting is occurring near or in the suites, for incorporation into the operator's training programs and appropriate operational manuals:

a. A limitation must be included in the airplane flight manual (AFM) requiring that crewmembers be trained in the operating procedures related to the suites.

3. The design of each suite, and the location of the firefighting equipment where suites are installed, must allow the crewmembers to conduct effective firefighting in the suite. For a manual, hand-held extinguishing system (designed as the sole means to fight a fire) for the suite:

a. A limitation must be included in the AFM requiring that crewmembers be trained in the firefighting procedures.

b. Each suite design must allow crewmembers equipped for firefighting to have unrestricted access to all parts of the suite compartment.

4. Approved procedures describing the methods for searching the suite compartment for fire sources must be established. These procedures should include a drawing or photo clearly indicating the location of the stowage drawer and other potential sources of smoke (e.g., the monitor). They must be transmitted to the operator for incorporation into their training programs and appropriate operations manuals.

5. If a berth is installed, occupancy of each suite is limited to a single passenger.

a. Each berth installed in the suite must incorporate a safety belt that meets § 25.785(f).

b. Each berth must be placarded to indicate the appropriate orientation of the occupant's head direction.

c. Each berth cushion must meet § 25.853(c).

6. If waste-disposal receptacles are fitted in the suite, the suite must be equipped with an automatic fire-extinguishing system that meets the performance requirements of § 25.854(b).

7. The design of each suite must:

a. Maintain minimum main aisle(s), cross aisle(s), and passageway(s) required by 14 CFR part 25 requirements when subjected to the ultimate inertia forces listed in § 25.561(d).

b. Prevent structural failure or deformation of components that could block access to the available evacuation routes (e.g., seats, doors, contents of stowage compartments, etc.).

8. In addition to the requirements of § 25.562 for seat systems, which are occupiable during taxi, takeoff, and landing, the suite structure must be designed for the additional loads imposed by the seats as a result of the conditions specified in § 25.562(b).

Issued in in Kansas City, Missouri, on July 30, 2024.
Patrick R. Mullen,
Manager, Technical Policy Branch, Policy and Standards Division, Aircraft Certification Service.

[FR Doc. 2024-17157 Filed 8-5-24; 8:45 am]

BILLING CODE 4910-13-P